DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 2, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Quality Samples Program.

OMB Control Number: 0551-0047.

Summary of Collection: The Quality Samples Program is authorized by Section 5 of the Commodity Credit Corporation Charter Act, 15 U.S.C. 714c (f), which became effective on November 15, 1999. Section 5 provides that in the fulfillment of its purposes and in carrying out its annual budget programs submitted to and approved by the Congress pursuant to Chapter 91 of Title 31, the Corporation is authorized to use its general powers only to export or cause to be exported, or aid in the development of foreign markets for, agricultural commodities (other than tobacco), including fish and fish products, without regard to whether such fish are harvested in aquacultural operations. By this authority the program pays for U.S. commodity samples and shipping to foreign ports in order to demonstrate the quality of the U.S. product to industrial users who are unfamiliar with the product.

Need and Use of the Information: Under the USDA Quality Samples Program, information will be gathered from applicants desiring to receive grants under the program to determine the viability of request for resources to implement activities in foreign countries. The collected information will be used to develop effective grant agreements and assure that statutory requirements and program objectives are met.

Description of Respondents: Not-for-profit institutions; business or other for-profit; Federal Government.

Number of Respondents: 10.

Frequency of Responses: Recordkeeping; reporting: annually.

Total Burden Hours: 1,200.

Ruth Brown,
Departmental Information Collection Clearance Officer.

[FR Doc. 2023-18974 Filed 8-31-23; 8:45 am]

BILLING CODE 3410-10-P